DEPARTMENT OF COMMERCE

National Oceanic and Atmospheric Administration

50 CFR Part 679

[Docket No. 050628170-5328-02; I.D. 062105B]

RIN 0648—AR67

Groundfish Fisheries of the Exclusive Economic Zone Off the Coast of Alaska; Recordkeeping and Reporting

AGENCY: National Marine Fisheries Service (NMFS), National Oceanic and Atmospheric Administration (NOAA), Commerce.

ACTION: Final rule.

SUMMARY: NMFS issues this final rule amending Table 2 to 50 CFR part 679. Table 2 is the source for species codes used in data collection, analysis, and monitoring of the Federal groundfish fisheries. This action is necessary to standardize collection of species information with the State of Alaska Department of Fish and Game (ADF&G), increase effectiveness of rockfish management, reflect current fisheries management interest in skates, and promote better enforcement of rockfish regulations. This final rule is intended to meet the conservation and management requirements of the Magnuson-Stevens Fishery Conservation and Management Act (Magnuson-Stevens Act) with respect to groundfish and to further the goals and objectives of the Alaska groundfish fishery management plans.

DATES: Effective January 18, 2006.

ADDRESSES: Copies of the Categorical Exclusion and the Regulatory Impact Review (RIR) prepared for this action may be obtained by mail from the Sustainable Fisheries Division, Alaska Region, NMFS, P.O. Box 21668, Juneau, AK 99802 1668, Attn: Lori Durall, or from the NMFS Alaska Region website at www.fakr.noaa.gov. Written comments regarding the burden-hour estimates or other aspects of the collection-of-information requirements contained in this final rule may be submitted to NMFS Alaska Region and by e-mail to David_Rostker@omb.eop.gov, or fax to (202) 395-7285.

FOR FURTHER INFORMATION CONTACT: Patsy A. Bearden, (907) 586 7008 or patsy.bearden@noaa.gov.

SUPPLEMENTARY INFORMATION: NMFS manages the groundfish fisheries in the EEZ off the coast of Alaska according to the Fishery Management Plan for Groundfish of the Gulf of Alaska and the Fishery Management Plan for Groundfish of the Bering Sea and Aleutian Islands. These fishery management plans (FMPs) were prepared by the North Pacific Fishery Management Council (Council) and approved by the Secretary of Commerce (Secretary) under authority of the Magnuson-Stevens Act, 16 U.S.C. 1801 et seq. The FMPs are implemented by regulations at 50 CFR part 679. General provisions governing fishing by U.S. vessels in accordance with the FMPs appear at subpart H of 50 CFR part 600.

Background and Need for Action

The management background and explanation of the need for this action were described in the preamble to the proposed rule published in the Federal Register on September 1, 2005 (70 FR 52060). Table 2 to Part 679 provides a list of FMP species and non-FMP species on which ADF&G and NMFS Alaska Region have agreed for use on ADF&G fish tickets as well as NMFS logbooks and forms. The FMP species are those which are managed under the FMPs and which must be recorded and reported in logbooks and forms. The non-FMP species are species that are frequently caught in association with FMP species, but that are not actively managed under the FMPs. These non-FMP species may be recorded and reported in logbooks and forms.

This action may require a few participants to learn to identify individual species of rockfish. An identification guide for rockfish of the Northeastern Pacific Ocean is available from NMFS, Alaska Region (see ADDRESSES) or at: http://www.afsc.noaa.gov/race/media/publications/archives/pubs2000/techmemo117.pdf.

The proposed rule to implement these changes was published in the Federal Register on September 1, 2005, for a 30-day comment period that ended October 3, 2005 (70 FR 52060). No written comments were received.

Elements of the Final Rule

Table 2 to Part 679

1. The table is reformatted from one table into four separate tables (Tables 2a, 2b, 2c, and 2d).

2. The following rockfish group codes are removed from Table 2 to part 679: 144, slope rockfish; 168, demersal shelf rockfish; 169, pelagic shelf rockfish; and 171, shortraker/rougheye rockfish. Removal of these group codes does not alter the use of the terms, ''slope rockfish,'' ''demersal shelf rockfish,'' ''pelagic shelf rockfish,'' or ''shortraker/rougheye rockfish'' in Tables 10 and 11 to 50 CFR part 679. These terms are still valid for calculation of maximum retainable percentages for basis species.

3. In § 679.2, the definition for ''Groundfish product or fish product'' is revised by removing “Tables 1 and 2 to this part, excluding the prohibited species listed in Table 2 to this part” and adding in its place ''Tables 1, 2a, 2c, and 2d to this part.''

4. In § 679.5, paragraph (m)(3)(v) is revised by removing reference to group codes 144, 168, 169, and 171.

Table 2a to Part 679

1. The table is entitled ''Species Codes: FMP Groundfish Species.'' This table contains the names and species codes of groundfish that are managed under the FMPs and that must be recorded and reported in NMFS logbooks and forms.

2. A species code, 702, is added to Table 2a to describe the species “big skates.” NMFS has implemented separate management and harvest specifications for the species “big skates” that require a new species code (69 FR 26313, May 12, 2004). An identification guide of big skates and longnose skates is available from NMFS, Alaska Region (see ADDRESSES) or at http://www.fakr.noaa.gov/infobulletins/2003/Rajalposter.jpg.

3. The description ''skates general,'' code 700 in Table 2a, is revised to read ''Other (if longnose or big skates - use specific species code).''

4. The description ''sharks general,'' code 689 in Table 2a, is revised to read ''Other (if salmon, spiny dogfish or Pacific sleeper shark - use specific species code).''

5. The description ''miscellaneous flatfish,'' code 120, is removed from the group codes and added to the FMP species in Table 2a as ''Flatfish, miscellaneous (flatfish species without separate codes).''

6. The Latin name for all individual rockfish species is added to Table 2a.

7. In § 679.2, paragraph (1) of the definition for ''Groundfish'' is revised by removing ''Table 2'' and adding in its place ''Table 2a.''

Table 2b to Part 679

1. The table is entitled ''Species Codes: FMP Prohibited Species.'' This table contains the names and species codes of species that are identified as prohibited species in the FMPs and that must be recorded and reported in NMFS logbooks and forms.

2. The species name for prohibited species code 932 in Table 2b, is changed from ''Opilio tanner crab'' to read ''Tanner, snow (C. opilio).''

3. The species name for prohibited species code 923 in Table 2b, is changed from ''Gold/brown king crab'' to read ''King, golden (brown).''

4. In § 679.2, the definition for ''Prohibited species'' is revised by adding a reference to ''Table 2b.''

5. In § 679.5, paragraph (n)(2)(iv)(D) is revised by removing ''Table 2'' and adding in its place ''Table 2b.''

6. In § 679.21, paragraph (b)(1) is revised by removing ''see § 679.2'' and adding in its place ''see § 679.2 and Table 2b to this part.''

Table 2c to Part 679

1. The table is entitled ''Species Codes: FMP Forage Fish Species.'' This table contains the names and species codes of species that are identified as forage fish in the FMPs and that must be recorded and reported in NMFS logbooks and forms.

2. In § 679.2, the definition for ''Forage fish'' is revised by removing ''see Table 2 to this part'' and adding in its place ''see Table 2c to this part and § 679.20(i).''

3. In § 679.20, paragraph (i)(1) is revised by removing ''see § 679.2'' and adding in its place ''See Table 2c to this part.''

Table 2d to Part 679

1. The table is entitled ''Species Codes: Non-FMP Species.'' This table contains the names and species codes of species that may be recorded in NMFS logbooks and forms but which recording is not required by regulations at 50 CFR part 679.

2. A species code, 112, is added to Table 2d for the species, Pacific hake. Fishermen increasingly are reporting catch of Pacific hake in the EEZ off Alaska. This creates the need for a new species code to record the catch.

3. The species name for non-FMP species code 961 in Table 2d, is changed from ''Pink shrimp'' to read ''Northern (pink).''

4. The species name for non-FMP species code 951 in Table 2d, is amended by adding the Latin name “Paralomis multispina.''

5. The species name for non-FMP species code 953 in Table 2d, is amended by adding the Latin name “Paralomis verilli.”

Additional Changes

In § 679.5, the headings for paragraphs (a)(1)(ii)(A), (B), and (C) are revised by removing “groundfish and prohibited species” and by adding in its place ''groundfish, prohibited species, and forage fish.''

In § 679.5, paragraphs (a)(1)(ii)(A), (B), and (C) are revised by removing “all groundfish and prohibited species” and adding in its place “all groundfish (see Table 2a to this part), prohibited species (see Table 2b to this part), and forage fish (see Table 2c to this part).”

Classification

This rule has been determined to be not significant for purposes of Executive Order 12866.

The Chief Counsel for Regulation of the Department of Commerce certified to the Chief Counsel for Advocacy of the Small Business Administration during the proposed rule stage that this action would not have a significant economic impact on a substantial number of small entities. No comments were received regarding this certification or the economic impacts of the rule. As a result, a regulatory flexibility analysis was not required and none was prepared.

This rule contains collection-of-information requirements that are subject to review and approval by OMB under the Paperwork Reduction Act (PRA) and which have been approved by OMB. The collections are listed below by OMB Control Number.

OMB Control Number 0648 0213

Total public reporting burden for this collection is 41,219 hours. Species codes are recorded and reported in this collection.

OMB Control Number 0648 0401

Total public reporting burden for this collection is 1,024 hours. Species codes are recorded and reported in this collection.

Send comments regarding this burden estimate, or any other aspect of this data collection, including suggestions for reducing the burden, to NMFS (see ADDRESSEES) and by e-mail to David_Rostker@omb.eop.gov, or fax to (202) 395 7285.

Notwithstanding any other provision of the law, no person is required to respond to, nor shall any person be subject to a penalty for failure to comply with, a collection of information subject to the requirements of the PRA, unless that collection of information displays a currently valid OMB Control Number.

This rule does not duplicate, overlap, or conflict with other Federal regulations.

List of Subjects in 50 CFR Part 679

Alaska, Fisheries, Recordkeeping and reporting requirements.

Dated: December 13, 2005.
James W. Balsiger,
Acting Deputy Assistant Administrator for Regulatory Programs, National Marine Fisheries Service.

For reasons set out in the preamble, 50 CFR part 679 is amended as follows:

PART 679—FISHERIES OF THE EXCLUSIVE ECONOMIC ZONE OFF ALASKA

1. The authority citation for part 679 continues to read as follows:

Authority: 16 U.S.C. 773 et seq.; 1540(f); 1801 et seq.; 1851 note; 3631 et seq.

§§ 679.2, 679.5, 679.20, and 679.21 [Amended]

2. In the table below, for each of the paragraphs shown in the “Location” column, remove the phrase indicated in the “Remove” column and replace it with the phrase indicated in the “Add” column for the number of times indicated in the “Frequency” column.

Location | Remove | Add | Frequency
§ 679.2 definition for “Forage fish” | (see Table 2 to this part) | (see Table 2c to this part and § 679.20(i)) | 1
§ 679.2 definition for paragraph (1) “Groundfish” | Table 2 | Table 2a | 1
§ 679.2 definition for “Groundfish product or fish product” | Tables 1 and 2 to this part, excluding the prohibited species listed in Table 2 to this part | Tables 1, 2a, 2c, and 2d to this part | 1
§ 679.2 definition for “Prohibited species” | Tanner crab | Tanner crab (see Table 2b to this part) | 1
§ 679.5(a)(1)(ii)(A), (B), and (C) paragraph heading | Groundfish and prohibited species | Groundfish, prohibited species, and forage fish | 1
§ 679.5(a)(1)(ii)(A), (B), and (C) | all groundfish and prohibited species | all groundfish (see Table 2a to this part), prohibited species (see Table 2b to this part), and forage fish (see Table 2c to this part) | 1
§ 679.5(m)(3)(v) | code for each species from Table 2 to this part, except species codes 120, 144, 168, 169, or 171; | code for each species from Tables 2a though 2d to this part, except species code 120 | 1
§ 679.5(n)(2)(iv)(D) | Table 2 | Table 2b | 1
§ 679.20(i)(1) | See § 679.2 | See Table 2c to this part | 1
§ 679.21(b)(1) | See § 679.2 | See § 679.2 and Table 2b to this part | 1

3. Table 2 to Part 679—Species Codes for FMP Species and non-FMP Species is removed, and Tables 2a, 2b, 2c, and 2d to Part 679 are added to read as follows:

Table 2a to Part 679—Species Codes: FMP Groundfish
Species Description | Code
Atka mackerel (greenling) | 193
Flatfish, miscellaneous (flatfish species without separate codes) | 120
FLOUNDER |
Alaska plaice | 133
Arrowtooth and/or Kamchatka | 121
Starry | 129
Octopus | 870
Pacific cod | 110
Pollock | 270
ROCKFISH |
Aurora (S. aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. ciliatus) | 154
Greenstriped (S. elongatus) | 135
Harlequin (S. variegatus) | 176
Northern (S. polyspinis) | 136
Pacific ocean perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS |
Other (if salmon, spiny dogfish or Pacific sleeper shark - use specific species code) | 689
Pacific sleeper | 692
Salmon | 690
Spiny dogfish | 691
SKATES |
Big | 702
Longnose | 701
Other (if longnose or big skate - use specific species code) | 700
SOLE |
Butter | 126
Dover | 124
English | 128
Flathead | 122
Petrale | 131
Rex | 125
Rock | 123
Sand | 132
Yellowfin | 127
Squid | 875
Turbot, Greenland | 134

Table 2b to Part 679—Species Code: FMP Prohibited Species
Species Description | Code
CRAB |
King, blue | 922
King, golden (brown) | 923
King, red | 921
King, scarlet | 924
Tanner, Bairdi (C. bairdi) | 931
Tanner, grooved | 933
Tanner, snow (C. opilio) | 932
Tanner, triangle | 934
Pacific halibut | 200
Pacific herring (family Clupeidae) | 235
SALMON |
Chinook | 410
Chum | 450
Coho | 430
Pink | 440
Sockeye | 420
Steelhead trout | 540

Table 2c to Part 679—Species Codes: FMP Forage Fish Species
(all species of the following families)
Species Description | Code
Bristlemouths, lightfishes, and anglemouths (family Gonostomatidae) | 209
Capelin smelt (family Osmeridae) | 516
Deep-sea smelts (family Bathylagidae) | 773
Eulachon smelt (family Osmeridae) | 511
Gunnels (family Pholidae) | 207
Krill (order Euphausiacea) | 800
Laternfishes (family Myctophidae) | 772
Pacific sandfish (family Trichodontidae) | 206
Pacific sand lance (family Ammodytidae) | 774
Pricklebacks, war-bonnets, eelblennys, cockscombs and shannys (family Stichaeidae) | 208
Surf smelt (family Osmeridae) | 515

Table 2d to Part 679—Species Codes—Non-FMP Species
Species Description | Code
Abalone | 860
Albacore | 720
Arctic char, anadromous | 521
CLAMS |
Butter | 810
Cockle | 820
Eastern softshell | 842
Geoduck | 815
Little-neck | 840
Razor | 830
Surf | 812
Coral | 899
CRAB |
Box | 900
Dungeness | 910
Korean horsehair | 940
Multispina (Paralomis multispina) | 951
Verrilli (Paralomis verillii) | 953
Dolly varden, anadromous | 531
Eels or eel-like fish | 210
Giant grenadier | 214
GREENLING |
Kelp | 194
Rock | 191
Whitespot | 192
Grenadier (rattail) | 213
Jellyfish | 625
Lamprey, Pacific | 600
Lingcod | 130
Lumpsucker | 216
Mussel, blue | 855
Pacific flatnose | 260
Pacific hagfish | 212
Pacific hake | 112
Pacific saury | 220
Pacific tomcod | 250
Prowfish | 215
Rockfish, black (GOA) | 142
Rockfish, blue (GOA) | 167
Sardine, Pacific (pilchard) | 170
Scallop, weathervane | 850
Scallop, pink (or calico) | 851
Sea cucumber | 895
Sea urchin, green | 893
Sea urchin, red | 892
Shad | 180
SHRIMP |
Coonstripe | 964
Humpy | 963
Northern (pink) | 961
Sidestripe | 962
Spot | 965
Skilfish | 715
Smelt, surf | 515
Snails | 890
Sturgeon, general | 680

[FR Doc. 05-24203 Filed 12-16-05; 8:45 am]

BILLING CODE 3510-22-S